Title 3—

The President

Executive Order 13596 of December 19, 2011

Amendments to Executive Orders 12131 and 13539

By the authority vested in me as President by the Constitution and the laws of the United States of America it is hereby ordered as follows:

Section1. Section 1-102 of Executive Order 12131 of May 4, 1979, as amended (President's Export Council), is further amended to read as follows:

“The membership of the Council shall be as follows:

(a) The heads of the following executive departments, agencies, or offices, or their representatives:

(1) Department of State.

(2) Department of the Treasury.

(3) Department of Agriculture.

(4) Department of Commerce.

(5) Department of Labor.

(6) Department of Energy.

(7) Department of Transportation.

(8) Department of Homeland Security.

(9) Office of United States Trade Representative.

(10) Export-Import Bank of the United States.

(11) Small Business Administration.

(12) United States Trade and Development Agency.

(13) Overseas Private Investment Corporation.

(14) Council of Economic Advisers.

(15) Office of Management and Budget.

(16) National Economic Council.

(17) National Security Staff.

(b) In their discretion, the heads of the following organizations or their designees:

(1) National Governors Association.

(2) United States Conference of Mayors.

(c) Five members of the United States Senate, designated by the President of the Senate, and five members of the United States House of Representatives, designated by the Speaker of the House, to serve for a two-year term.

(d) Not to exceed 28 citizens appointed by the President. These individuals shall be selected from those who are not full-time Federal officers or employees. They shall include representatives of business and industry, agriculture, and labor.”.

Sec. 2. (a) Section 3(d) of Executive Order 13539 of April 21, 2010, as amended (President's Council of Advisors on Science and Technology), is further amended to read as follows: “The Department of Energy shall provide such funding and administrative and technical support as the PCAST may require.”.

(b) Section 5(a) of Executive Order 13539, as amended, is further amended to read as follows: “Insofar as the Federal Advisory Committee Act, as amended (5 U.S.C. App.) (FACA), may apply to the PCAST, any functions of the President under the FACA, except that of reporting to the Congress, shall be performed by the Secretary of Energy in accordance with the guidelines and procedures established by the Administrator of General Services.”.

THE WHITE HOUSE,

December 19, 2011.

[FR Doc. 2011-33335

Filed 12-23-11; 8:45 am]

Billing code 3295-F2-P